ENVIRONMENTAL PROTECTION AGENCY

[FRL-8499-2]

Proposed Cercla Administrative Agreement for the Recovery of Past and Future Response Costs Incurred at the Vermiculite Intermountain Site in Salt Lake City, UT

AGENCY: Environmental Protection Agency (EPA).

ACTION: Notice and request for public comment.

SUMMARY: In accordance with the requirements of Section 122(i) of the Comprehensive Environmental Response, Compensation, and Liability Act, as amended (“CERCLA”), 42 U.S.C. 9622(i), notice is hereby given of a proposed administrative settlement under section 122(h)(1)of CERCLA, 42 U.S.C. 9622(h)(1), concerning the Vermiculite Intermountain Site located at and around 333 West 100 South in Salt Lake City, Utah. This settlement, embodied in a CERCLA Section 104, 106(a), 107 and 122(h) Administrative Settlement Agreement and Order On Consent for Removal Action (“Agreement”), is designed to resolve the liability of Settling Respondents for past and future costs at the Site through covenants under sections 106 and 107 of CERCLA, 42 U.S.C. 9606 and 9607, while requiring long-term institutional controls to protect remedies already in place at the Site. The proposed Agreement requires the Van Cott, Bagley, Cornwall & McCarthy 401(k) Profit Sharing Plan Supplemental Trust to pay a total of $100,000, La Quinta Properties, Inc., to pay a total of $441,000 and recognizes PacifiCorp's performance of approximately $3.5 million in cleanup work at the Site. In addition, PacifiCorp and La Quinta Properties, Inc., will record EPA-approved Environmental Covenants to ensure the continued protection of remedial features at the Site.

Opportunity for Comment: For thirty (30) days following the date of publication of this notice, the Agency will consider all comments received, and may modify or withdraw its consent to the Agreement if comments received disclose facts or considerations which indicate that the Agreement is inappropriate, improper, or inadequate. The Agency's response to any comments received will be available for public inspection at EPA Region 8's Central Records Center, 1595 Wynkoop Street, 3rd Floor, in Denver, Colorado.

DATES: Comments must be submitted on or before December 27, 2007.

ADDRESSES: The proposed Agreement and additional background information relating to the settlement are available for public inspection at EPA Region 8's Central Records Center, 1595 Wynkoop Street, 3rd Floor, in Denver, Colorado. Comments and requests for a copy of the proposed Agreement should be addressed to Kelcey Land (8ENF-RC), Technical Enforcement Program, U.S. Environmental Protection Agency, 1595 Wynkoop Street, Denver, Colorado 80202-1129, and should reference the Settlement for the Vermiculite Intermountain Site, in Salt Lake City, Utah.

FOR FURTHER INFORMATION CONTACT: Kelcey Land, Enforcement Specialist (8ENF-RC), Technical Enforcement Program, U.S. Environmental Protection Agency, 1595 Wynkoop Street, Denver, Colorado 80202-1129, (303) 312-6393.

SUPPLEMENTARY INFORMATION: Regarding the proposed administrative settlement under Sections 104, 106(a), 107 and 122(h)(1) of CERCLA, 42 U.S.C. 9604, 9606(a), 9607 and 9622(h)(1): In accordance with section 122(i) of CERCLA, 42 U.S.C. 9622(i), notice is hereby given that the terms of the Agreement have been agreed to by the Settling Respondents and EPA. By the terms of the proposed Agreement, the Van Cott, Bagley, Cornwall & McCarthy 401(k) Profit Sharing Plan Supplemental Trust will pay a total of $100,000 and La Quinta Properties will pay $441,000 to the Hazardous Substance Superfund. These payments, in addition to the cleanup already performed by PacifiCorp, amounts to more than half of the funds expended at the Site.

It is so agreed:

Dated: November 14, 2007.
Eddie A. Sierra,
Acting Assistant Regional Administrator, Office of Enforcement, Compliance, and Environmental Justice, Region 8.

[FR Doc. E7-23064 Filed 11-26-07; 8:45 am]

BILLING CODE 6560-50-P